DEPARTMENT OF THE INTERIOR

Fish and Wildlife Service

50 CFR Part 17

RIN 1018-AH08

Endangered and Threatened Wildlife and Plants; Determinations of Whether Designation of Critical Habitat is Prudent for 20 Plant Species and the Proposed Designations of Critical Habitat for 32 Plant Species From the Island of Molokai, Hawaii

AGENCY: Fish and Wildlife Service, Interior.

ACTION: Proposed rule; extension of comment period, and public hearing announcement.

SUMMARY: The U.S. Fish and Wildlife Service (Service) gives notice of a public hearing on the prudency determinations for 20 plants, and the proposed critical habitat designations for 32 plants from the island of Molokai, Hawaii. In addition, the comment period which will close on February 27, 2001, will be extended. The new comment period and hearing will allow all interested parties to submit oral or written comments on the proposal. We are seeking comments or suggestions from the public, other concerned agencies, the scientific community, industry, or any other interested parties concerning the proposed rule. Comments already submitted on the proposed rule need not be resubmitted as they will be fully considered in the final determination.

DATES: The comment period for this proposal now closes on April 2, 2001. Any comments received by the closing date will be considered in the final decision on this proposal. The public hearing will be held from 6:00 p.m. to 8:00 p.m. on March 21, 2001, on the island of Molokai, Hawaii. Prior to the public hearing, the Service will be available from 5:30 p.m. to 6:00 p.m. to provide information and to answer questions. The Service will also be available for questions after the hearing.

ADDRESSES: Comments and materials concerning this proposal should be sent to the Field Supervisor, U.S. Fish and Wildlife Service, Pacific Islands Ecoregion Office, 300 Ala Moana Boulevard, Room 3-122, P.O. Box 50088, Honolulu, Hawaii 96850. Comments and materials received will be available for public inspection, by appointment, during normal business hours at the above address.

The public hearing will be held at the Mitchell Pauole Center Hall, 90 Ainoa Street, Kaunakakai, Hawaii.

FOR FURTHER INFORMATION CONTACT: Paul Henson, at the above address, phone 808-541-3441, facsimile 808-541-3470.

SUPPLEMENTARY INFORMATION:

Background

On December 29, 2000, the Service published notice of prudency determinations for 20 plant species and proposed designations of critical habitat for 32 plant species from the island of Molokai, Hawaii, pursuant to the Endangered Species Act of 1973, as amended (Act) in the Federal Register (65 FR 83158). The original comment period will close on February 27, 2001. The comment period now closes on April 2, 2001. Written comments should be submitted to the Service (see ADDRESSES section).

A total of 49 species historically found on Molokai were listed as endangered or threatened species under the Act between 1991 and 1999. Some of these species may also occur on other Hawaiian islands. At the time each plant was listed, with the exception of one species, we determined that designation of critical habitat was not prudent because designation would increase the degree of threat to the species and/or would not benefit the species. We determined that designation of critical habitat was prudent for Labordia triflora at the time of its listing in 1999.

Due to litigation, we reconsidered our previous prudency determinations for 48 plants. From this review, we are proposing that critical habitat is prudent for 19 of these species because the potential benefits of designating critical habitat essential for the conservation of these species outweigh the risks of designation. We are proposing that the designation of critical habitat is not prudent for one species, Pritchardia munroi, because it would likely increase the threat from vandalism or collection of this species on Molokai. In other proposed rules we determined that critical habitat was prudent for 19 species that occur on Molokai as well as on Kauai, Niihau, Maui, Kahoolawe, and/or Lanai (65 FR 66808; 65 FR 79192; 65 FR 82086). The remaining nine species historically found on Molokai, no longer occur on this island. However, these species do occur on other islands, so proposed prudency determinations will be made in future rules addressing plants on those islands.

This proposed rule also proposes designation of critical habitat for 32 plant species. Twenty-eight critical habitat units, covering 6,446 hectares (15,930 acres) (these numbers were incorrectly given as 6,163 hectares (15,228 acres) in 65 FR 83158), are proposed for designation on the island of Molokai.

Section 4(b)(5)(E) of the Act (16 U.S.C. 1531 et seq.), requires that a public hearing be held if it is requested within 45 days of the publication of a proposed rule. In response to a request from a government agency of the State of Hawaii, the Service will hold a public hearing on the date and at the address described in the DATES and ADDRESSES sections above.

Anyone wishing to make an oral statement for the record is encouraged to provide a written copy of their statement and present it to the Service at the hearing. In the event there is a large attendance, the time allotted for oral statements may be limited. Oral and written statements receive equal consideration. There are no limits to the length of written comments presented at the hearing or mailed to the Service. Legal notices announcing the date, time, and location of the public hearing will be published in newspapers concurrently with the Federal Register notice.

Comments from the public regarding the accuracy of this proposed rule are sought, especially regarding:

(1) The reasons why critical habitat for any of these species is prudent or not prudent;

(2) The reasons why any particular area should or should not be designated as critical habitat for any of these species;

(3) Specific information on the amount and distribution of habitat for any of these species;

(4) Land use permits and current or planned activities in the subject areas and their possible impacts on proposed critical habitat;

(5) Any economic or other relevant impacts resulting from the proposed designations of critical habitat, including any impacts on small entities or families; and

(6) Economic and other potential values associated with designating critical habitat for the 32 plant species such as those derived from non-consumptive uses (e.g., hiking, camping, birding, enhanced watershed protection, increased soil retention, “existence values”, and reductions in administrative costs).

Reopening of the comment period will enable the Service to respond to the request for a public hearing on the proposed action. The comment period on this proposal now closes on April 2, 2001. Written comments should be submitted to the Service office listed in the ADDRESSES section.

Author

The primary authors of this notice are Christa Russell and Michelle Stephens (see ADDRESSES section).

Authority: The authority for this action is the Endangered Species Act of 1973 (16 U.S.C. 1531 et seq.).

Dated: February 13, 2001.
Rowan W. Gould,
Acting Regional Director, Region 1, Fish and Wildlife Service.

[FR Doc. 01-4380 Filed 2-21-01; 8:45 am]

BILLING CODE 4310-55-P